DEPARTMENT OF HOMELAND SECURITY

Coast Guard

46 CFR Part 4

[USCG-2001-8773]

RIN 1625-AA27 (formerly 2115-AG07)

Marine Casualties and Investigations; Chemical Testing Following Serious Marine Incidents

AGENCY: Coast Guard, DHS.

ACTION: Notice of proposed rulemaking; notice of public meeting; reopening of comment period.

SUMMARY: The Coast Guard is reopening the comment period on the notice of proposed rulemaking for Marine Casualties and Investigations; Chemical Testing Following Serious Marine Incidents published in the Federal Register on February 28, 2003. In response to requests for a public meeting that were submitted to the public docket, the Coast Guard will hold a public meeting in Washington, DC. The purpose of the meeting is to obtain information from the public in addition to the comments already submitted to the docket.

DATES: The meeting will be held Friday, September 19, 2003, from 9 a.m. to 5 p.m. in Washington, DC. This meeting may close early if all business is finished. Comments must reach the docket on or before September 30, 2003.

ADDRESSES: The meeting location is: United States Coast Guard Headquarters, Transpoint Building, 2100 Second Street, SW., Room 2415, Washington, DC 20593. You may submit comments identified by Coast Guard docket number USCG-2001-8773 to the Docket Management Facility at the U.S. Department of Transportation (DOT). To avoid duplication, please use only one of the following methods:

(1) Web Site: http://dms.dot.gov.

(2) Federal eRulemaking Portal: http://www.regulations.gov.

(3) Mail: Docket Management Facility, DOT, 400 Seventh Street SW., Washington, DC 20590-0001.

(4) Fax: 202-493-2251.

(5) Delivery: Room PL-401 on the Plaza level of the Nassif Building, 400 Seventh Street SW., Washington, DC, between 9 a.m. and 5 p.m., Monday through Friday, except Federal holidays. The telephone number is 202-366-9329.

FOR FURTHER INFORMATION CONTACT: For questions on this proposed rule, contact Mr. Robert C. Schoening, Drug and Alcohol Program Manager, telephone 202-267-0684; e-mail address: rschoening@comdt.uscg.mil. For questions on viewing material in the docket, call Andrea M. Jenkins, Program Manager, Docket Operations, DOT, telephone 202-366-0271.

SUPPLEMENTARY INFORMATION:

Public Participation and Request for Comments

We encourage you to participate in this rulemaking by submitting comments and related materials. All comments received will be posted, without change, to http://dms.dot.gov and will include any personal information you have provided. We have an agreement with the DOT to use the Docket Management Facility even though the Coast Guard has recently transferred to DHS. Please see the DOT's statement on the Privacy Act under the section titled Viewing comments and documents.

Submitting comments: If you submit a comment, please include your name and address, identify the docket number for this rulemaking [USCG-2001-8773], indicate the specific section of the proposed rule to which each comment applies, and give the reason for each comment. You may submit your comments and material by electronic means, mail, fax, or delivery to the Docket Management Facility at the address under ADDRESSES; but please submit your comments and material by only one means. If you submit them by mail or delivery, submit them in an unbound format, no larger than 8½ by 11 inches, suitable for copying and electronic filing. If you submit them by mail and would like to know that they reached the Facility, please enclose a stamped, self-addressed postcard or envelope. We will consider all comments and material received during the comment period in developing the final rule.

Viewing comments and documents: To view comments, as well as documents mentioned in this preamble as being available in the docket, go to http://dms.dot.gov at any time and conduct a simple search using the docket number. You may also visit the Docket Management Facility in room PL-401 on the Plaza level of the Nassif Building, 400 Seventh Street SW., Washington, DC, between 9 a.m. and 5 p.m., Monday through Friday, except Federal holidays. Privacy Act: Anyone can search the electronic form of all comments received into any of our dockets by the name of the individual submitting the comment (or signing the comment, if submitted on behalf of an association, business, labor union, or the like). You may review the DOT's statement on the Privacy Act in the Federal Register published on April 11, 2000 [65 FR 19477], or you may visit http://dms.dot.gov.

Background Information

The 1998 Coast Guard Authorization Act requires the Coast Guard to establish procedures ensuring alcohol testing is conducted within two hours of a serious marine casualty. The Coast Guard proposes to establish requirements for testing within the statutory time limits, to expand the existing requirements for commercial vessels to have alcohol testing devices on board, and to authorize use of a wider variety of testing devices (Notice of Proposed Rulemaking, [68 FR 9722], February 28, 2003). This rulemaking would also make additional minor procedural changes to Part 4, including a time limit for conducting drug testing following a serious marine incident. The Coast Guard reopened the comment period and scheduled this public meeting in response to comments previously submitted to the docket.

Public Meeting

The public meeting will be held September 19, 2003, from 9 a.m. to 5 p.m., at the United States Coast Guard Headquarters, Transpoint Building, 2100 Second Street, SW., Washington, DC. The building is located adjacent to Army Fort Leslie J. McNair at Buzzard Point. Entry to the Transpoint Building is controlled. All attendees must have a picture identification issued by a U.S. Federal Agency or a State or Territory issued drivers license. Valid Passports and Merchant Mariner Documents are also acceptable. Everyone is subject to a weapons search.

Members of the public may provide oral statements at the meeting. Oral statements may be time limited if there are numerous speakers. Persons wishing to make oral statements should notify Mr. Robert C. Schoening listed under FOR FURTHER INFORMATION CONTACT no later than two days before the meeting.

On street public parking in the vicinity of Coast Guard Headquarters is very limited. James Creek Marina, National Park Service, is adjacent to Coast Guard Headquarters and has some parking available for a nominal fee. The closest Metro Station is SEU-Waterfront on the Green Line, about nine blocks from Coast Guard Headquarters. Attendees are encouraged to utilize taxi or public buses serving the Buzzard Point area. (For Bus Schedules, please see the Washington Area Metro Transit Authority-WMATA Web site at http://www.wmata.com/. Bus Route 71 serves Coast Guard Headquarters).

Information on Services for Individuals With Disabilities

For information on facilities or services for individuals with disabilities, or to request assistance at the meeting, Contact Mr. Robert C. Schoening listed under FOR FURTHER INFORMATION CONTACT as soon as possible.

Dated: August 18, 2003.
L.L. Hereth,
Acting Assistant Commandant for Marine Safety, Security and Environmental Protection.

[FR Doc. 03-21643 Filed 8-22-03; 8:45 am]

BILLING CODE 4910-15-P